DEPARTMENT OF LABOR

Employment and Training Administration

[Docket No. TA-W-40,575]

Phoenix Finishing Corp. a Division of NRB Industries, Inc. Gaffney, SC; Notice of Investigation

Pursuant to section 221 of the Trade Act of 1974, an investigation was initiated on January 14, 2002 in response to a worker petition which was filed by a company official on behalf of workers at Phoenix Finishing Corporation, a Division of NRB Industries, Inc, Gaffney, South Carolina.

An active investigation covering the petitioning group of workers is already in effect (TA-W-40,432). Consequently, further investigation in this case would serve no purpose, and the investigation has been terminated.

Signed in Washington, DC this 25th day of April, 2002.
Linda G. Poole,
Certifying Officer, Division of Trade Adjustment Assistance.

[FR Doc. 02-12394 Filed 5-16-02; 8:45 am]

BILLING CODE 4510-30-M